DEPARTMENT OF ENERGY

Federal Energy Regulatory Commission

Combined Notice of Filings #1

Take notice that the Commission received the following electric rate filings:

Docket Numbers: ER24-726-002.

Applicants: Viridon New York Inc.

Description: Compliance filing: Compliance Filing to be effective 2/23/2024.

Filed Date: 7/25/25.

Accession Number: 20250725-5135.

Comment Date: 5 p.m. ET 8/15/25.

Docket Numbers: ER24-727-003.

Applicants: Viridon Southwest LLC.

Description: Compliance filing: Compliance Filing to be effective 2/23/2024.

Filed Date: 7/25/25.

Accession Number: 20250725-5138.

Comment Date: 5 p.m. ET 8/15/25.

Docket Numbers: ER24-757-003.

Applicants: Viridon Midcontinent LLC.

Description: Compliance filing: Compliance Filing to be effective 2/29/2024.

Filed Date: 7/25/25.

Accession Number: 20250725-5131.

Comment Date: 5 p.m. ET 8/15/25.

Docket Numbers: ER25-2312-002.

Applicants: Midcontinent Grid Solutions Iowa, LLC.

Description: Tariff Amendment: Amendment to Formula Rate Filing, Request for Shortened Comment Period to be effective 7/23/2025.

Filed Date: 7/25/25.

Accession Number: 20250725-5156.

Comment Date: 5 p.m. ET 7/30/25.

Docket Numbers: ER25-2982-000.

Applicants: Duke Energy Progress, LLC.

Description: § 205(d) Rate Filing: DEP E&P Agreement RS No. 472 to be effective 9/24/2025.

Filed Date: 7/25/25.

Accession Number: 20250725-5132.

Comment Date: 5 p.m. ET 8/15/25.

Docket Numbers: ER25-2983-000.

Applicants: Cheyenne Light, Fuel and Power Company.

Description: Initial rate filing: Bluffs Substation Transmission Interconnection Agreement to be effective 9/23/2025.

Filed Date: 7/25/25.

Accession Number: 20250725-5144.

Comment Date: 5 p.m. ET 8/15/25.

Docket Numbers: ER25-2984-000.

Applicants: Black Hills Power, Inc.

Description: Initial rate filing: Certificate of Concurrence-Bluffs Substation Transmission Interconnection Agrmt to be effective 9/23/2025.

Filed Date: 7/25/25.

Accession Number: 20250725-5164.

Comment Date: 5 p.m. ET 8/15/25.

Docket Numbers: ER25-2986-000.

Applicants: Mid-Atlantic Interstate Transmission, LLC.

Description: § 205(d) Rate Filing: MAIT submits amnd SA 7182 and new SA 7356 to be effective 9/27/2025.

Filed Date: 7/28/25.

Accession Number: 20250728-5002.

Comment Date: 5 p.m. ET 8/18/25.

Docket Numbers: ER25-2987-000.

Applicants: Southwest Power Pool, Inc.

Description: § 205(d) Rate Filing: 2639R1 Sunflower Electric Power Corporation NITSA NOA to be effective 7/1/2025.

Filed Date: 7/28/25.

Accession Number: 20250728-5024.

Comment Date: 5 p.m. ET 8/18/25.

Docket Numbers: ER25-2988-000.

Applicants: Southwest Power Pool, Inc.

Description: § 205(d) Rate Filing: 4447 Pierce County Energy Center GIA to be effective 7/17/2025.

Filed Date: 7/28/25.

Accession Number: 20250728-5031.

Comment Date: 5 p.m. ET 8/18/25.

Docket Numbers: ER25-2990-000.

Applicants: Southwest Power Pool, Inc.

Description: Tariff Amendment: 4096 Southwestern Power/City of Sikeston MO Int Agr Cancel to be effective 6/1/2025.

Filed Date: 7/28/25.

Accession Number: 20250728-5032.

Comment Date: 5 p.m. ET 8/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 28, 2025.
Carlos D. Clay,
Deputy Secretary.

[FR Doc. 2025-14494 Filed 7-30-25; 8:45 am]

BILLING CODE 6717-01-P